DEPARTMENT OF COMMERCE

National Oceanic and Atmospheric Administration

RIN 0648-XE405

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold a three-day meeting.

DATES: The meeting will be held Tuesday, Wednesday, and Thursday, February 9-11, 2016 beginning at 9 a.m. on Tuesday, February 9, 2016 and ending at 1 p.m. on Thursday, February 11, 2016.

ADDRESSES: The meeting will be held at Double Tree by Hilton New Bern, 100 Middle Street, New Bern, NC 28560; telephone: (252) 638-3585.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION:

Agenda

Tuesday, February 9, 2016

The Executive Committee will hold a closed session to discuss Scientific and Statistical Committee membership and process. The Collaborative Research Committee will review and discuss preliminary alternatives for long-term collaborative research. The Council will convene to consider comments from the Unmanaged Forage Fish Fishery Management Team, Ecosystems and Ocean Planning Advisory Panel, and Ecosystems and Ocean Planning Committee meetings on list of species, management alternatives, and other aspects of the amendment and review and approve the public hearing document. A presentation will be offered to the Council on the Northeast Regional Ocean Council Party/Charter Electronic Reporting Project.

Wednesday, February 10, 2016

The Council will convene to review the Ecosystem Approach to Fisheries Management Interactions White Paper and discuss the first draft of the Ecosystems Approach to Fisheries Management Guidance Document. The Fisheries Dependent Data Project will be presented. Ricks E Savage Award will be presented. The Law Enforcement reports will be presented by NOAA Office of Law Enforcement and the U.S. Coast Guard. The Council will review the Advisory Panel input for Scup Gear Restricted Areas (Framework Meeting 2), review analysis of the impacts, and select the final alternative. The Council will select preferred alternatives for the Omnibus Industry Funded Monitoring Amendment for standard cost responsibilities, framework provisions for Industry Funded Monitoring Programs, service provider requirements, a prioritization process to allocate federal funding, and monitoring set-asides.

Thursday, February 11, 2016

The Council will receive an update on implementation activities for the Marine Recreational Information Program. The Naming of the Deep Sea Coral Protection Areas will be discussed. The day will conclude with brief reports from the National Marine Fisheries Service's GARFO and the Northeast Fisheries Science Center, NOAA's Office of General Counsel, the Atlantic States Marine Fisheries Commission (ASMFC), the New England and South Atlantic Fishery Council's liaisons and the Regional Planning Body Report. The Council will also receive the Council's Executive Director's Report, the Science Report, and a Committee Report for the Collaborative Research Committee, and discuss any continuing and/or new business.

Although other non-emergency issues not contained in this agenda may come before this Council for discussion, those issues may not be the subjects of formal action during this meeting. Council action will be restricted to those issues specifically listed in this notice and any issues arising after publication of this notice that require emergency action under section 305(c) of the Magnuson-Stevens act, provided that the public has been notified of the Council's intent to take final action to address the emergency.

Special Accommodations

This meeting is physically accessible to people with disabilities. Requests for sign language interpretation or other auxiliary aids should be directed to M. Jan Saunders, (302) 526-5251, at least 5 days prior to the meeting date.

Dated: January 15, 2016.
Tracey L. Thompson,
Acting Deputy Director, Office of Sustainable Fisheries, National Marine Fisheries Service.

[FR Doc. 2016-01217 Filed 1-21-16; 8:45 am]

BILLING CODE 3510-22-P